DEPARTMENT OF TRANSPORTATION

Federal Motor Carrier Safety Administration

[Docket No. FMCSA-2006-26261]

Notice of Request for Comments on Renewal of a Currently Approved Information Collection: Financial Responsibility for Motor Carriers of Passengers and Motor Carriers of Property

AGENCY: Federal Motor Carrier Safety Administration (FMCSA), DOT.

ACTION: Notice; request for information.

SUMMARY: In accordance with the Paperwork Reduction Act of 1995, FMCSA announces its plan to submit the Information Collection Request (ICR) described below to the Office of Management and Budget (OMB) for review and approval. This information collection renewal will be used to ensure that motor carriers of property and passengers maintain the appropriate levels of financial responsibility to operate on public highways. The Agency published a Federal Register notice allowing for a 60-day comment period on the ICR in August 2006 (71 FR 48967, Aug. 22, 2006). FMCSA did not receive any comments in response to this notice.

DATES: Please send your comments by January 17, 2007. OMB must receive your comments by this date in order to act quickly on the ICR.

ADDRESSES: You may submit comments to the Office of Information and Regulatory Affairs, Office of Management and Budget, 725 Seventeenth Street, NW., Washington, DC 20503, Attention: DOT/FMCSA Desk Officer.

FOR FURTHER INFORMATION CONTACT: Ms. Stephanie Haller, Commercial Enforcement, Department of Transportation, Federal Motor Carrier Safety Administration, 400 Seventh Street, SW., Washington DC 20590-0001. Telephone: 202-385-2422; e-mail Stephanie.haller@fmcsa.dot.gov.

SUPPLEMENTARY INFORMATION: Title: Financial Responsibility for Motor Carriers of Passengers and Motor Carriers of Property.

OMB Control Number: 2126-0008.

Type of Request: Extension of a currently-approved information collection.

Respondents: Insurance and surety companies of motor carriers of property (Forms MCS-90 and MCS-82) and motor carriers of passengers (Forms MCS-90B and MCS-82B).

Estimated Number of Respondents: 143,728 [138,768 property carriers + 4,960 passengers carriers = 143,728].

Estimated Time per Response: The FMCSA estimates it takes two minutes for an insurance company to complete the Endorsement for Motor Carrier Policies of Insurances for Public Liability (Forms MCS-90/90B; for both property and passenger carriers) or the Motor Carrier Public Liability Surety Bond (Forms MCS-82/82B for both property and passenger carriers); one minute for the insurance company to file the Motor Carrier Public Liability Surety Bond (Forms MCS-82/82B) with FMCSA; one minute for the insurance company to provide Forms MCS-90/90B to the carrier; and one minute to place either document (Forms MCS-90/90B and MCS-82/82B) on board the vehicle (foreign-domiciled motor carriers only). These endorsements (Forms MCS-90/90B and MCS-82/82B) are maintained at the motor carrier's principal place of business (see 49 CFR 387.7(d)).

Expiration Date: December 31, 2006.

Frequency of Response: Upon creation, change, or replacement of an insurance policy or surety bond.

Estimated Total Annual Burden: 4,529 hours [151.4 hours for motor carriers of passengers + 4,377.4 hours for motor carriers of property = 4,528.8 or rounded to the nearest hour 4,529].

Background

The Secretary of Transportation is responsible for implementing regulations which establish the minimal levels of financial responsibility for: (1) For-hire motor carriers of property to cover public liability, property damage, and environmental restoration, and (2) for-hire motor carriers of passengers to cover public liability and property damage. The Endorsement for Motor Carrier Policies of Insurance for Public Liability (Forms MCS-90/90B) and the Motor Carrier Public Liability Surety Bond (Forms MCS-82/82B) contain the minimum amount of information necessary to document that a motor carrier of property or passengers has obtained, and has in effect, the minimum levels of financial responsibility as set forth in applicable regulations (motor carriers of property—49 CFR 387.9; and motor carrier of passengers—49 CFR 387.33). FMCSA and the public can verify that a motor carrier of property or passengers has obtained, and has in effect, the required minimum levels of financial responsibility, by use of the information embraced within these documents.

Public Comments Invited: You are asked to comment on any aspect of this information collection, including: (1) Whether the proposed collection is necessary for the FMCSA's performance; (2) the accuracy of the estimated burden; (3) ways for the FMCSA to enhance the quality, usefulness, and clarity of the collected information; and (4) ways that the burden could be minimized without reducing the quality of the collected information.

Issued on: December 11, 2006.
John H. Hill,
Administrator.

[FR Doc. E6-21455 Filed 12-15-06; 8:45 am]

BILLING CODE 4910-EX-P